DEPARTMENT OF TRANSPORTATION

National Highway Traffic Safety Administration

[U.S. DOT Docket No. NHTSA-2017-0057]

Reports, Forms, and Record Keeping Requirements

AGENCY: National Highway Traffic Safety Administration, DOT.

ACTION: Notice.

SUMMARY: In compliance with the Paperwork Reduction Act of 1995, this notice announces that the Information Collection Request (ICR) abstracted below will be submitted to the Office of Management and Budget (OMB) for review. The ICR describes the nature of the information collection and its expected burden.

DATES: Comments must be received on or before November 6, 2017.

ADDRESSES: You may submit comments identified by DOT Docket ID Number NHTSA-2017-0057 using any of the following methods:

Electronic submissions: Go to http://www.regulations.gov and follow the on-line instructions for submitting comments.

Mail, Hand Delivery, or Courier: U.S. Department of Transportation, 1200 New Jersey Avenue SE., Docket Management Facility, M-30, Room W12-140, Washington, DC 20590.

Docket hours are 9 a.m. to 5 p.m., Monday through Friday, except Federal holidays; phone 202-647-5527.

FOR FURTHER INFORMATION CONTACT: Ms. Amy Berning, Contracting Officer's Representative, Office of Behavioral Safety Research, National Highway Traffic Safety Administration, 1200 New Jersey Avenue SE., Washington, DC 20590. Ms. Berning's phone number is 202-366-5587 and the email address is amy.berning@dot.gov.

SUPPLEMENTARY INFORMATION:

OMB Control Number: None.

Title: Drug Use by Drivers Arrested for Driving Under the Influence or Driving While Under the Influence of Drugs

Form Number: This collection of information uses no standard forms.

Type of Request: Regular.

Respondents—Under this proposed effort, NHTSA will collect data from approximately 1,000 drivers/participants.

Estimated time per Participant—NHTSA estimates that participants will spend an average of 15 minutes to complete the survey and provide the oral fluid specimen. The respondents would not incur any reporting cost or record keeping burden from the data collection.

Total Estimated Annual Burden Hours: 250 hours per year.

Frequency of Collection: Each participant will provide one oral fluid sample and respond to the survey questions only once during the study period.

Summary of Collection of Information: This study will estimate the prevalence of drugs in drivers arrested for impaired driving. The goal is to better understand the frequency of alcohol, prescription, over-the-counter, and illicit drugs, in impaired driving arrests.

A minimum of 1,000 drivers arrested for impaired driving, who consent to voluntarily participate, will provide an oral fluid sample and respond to interview questions. The oral fluid sample provides information on the participant's use of 50 or more drug(s). Trained researchers will ask participants questions regarding demographics, driving, alcohol, and drug use.

Data collection would take place over a six month period at two to three sites across the country. The research team will coordinate with the local police departments and officials at these sites. There will be a private room at each police department's booking facility for this study's use.

A police officer will briefly inform the driver/potential participant of the opportunity to participate in a research study sponsored by NHTSA. If the driver is interested, a researcher will provide full information about the study. If the driver is not interested, no information will be collected on that person. The researcher will highlight that participation is voluntary, the oral fluid and survey responses will be anonymous, and the participant may stop the study at any time. The results of the drug test and questionnaire will not be provided to anyone outside of the research team (including to the participant), and participation in the study will not be used to help or hurt the individual in any related legal proceedings. All participants must be 18 years of age or older to participate.

To provide an oral fluid sample, a participant simply places a cotton swab in their mouth for approximately 5 minutes. The specimen will be sent to an independent laboratory for analyses. The participant will also be provided a self-report survey on alcohol and drug use, perceptions of impaired driving, and driving behaviors. This survey will take approximately 10 minutes and will be conducted via an electronic tablet or, if needed, a paper copy will be available. All data will be housed on a secure data collection and management site. No identifying participant information will be collected or used in the study. Drug test results will only be associated with survey responses using a project subject code.

Description of the Need for the Information and Proposed Use of the Information: The purpose of this study is to examine the drug presence and drug use characteristics of drivers arrested for impaired driving. While there is extensive research on alcohol-impaired driving, significantly less is known about the prevalence and risk factors of over-the-counter, prescription, and illegal drug-positive driving. A significant reason for this lack of information is that impaired drivers with alcohol in their system are rarely tested for other drugs and, when tested, are only tested for a few drugs. To address this knowledge gap, this study will obtain a biological specimen from the drivers, to directly learn about drug use, along with collecting self-report data.

The data will be used to better understand the prevalence of a variety of drugs in impaired drivers and better understand risk factors for drug-impaired driving.

Authority: 44 U.S.C. Section 3506(c)(2)(A).

Issued in Washington, DC.
Jeff Michael,
Associate Administrator, Research and Program Development.

[FR Doc. 2017-18827 Filed 9-5-17; 8:45 am]

BILLING CODE 4910-59-P